DEPARTMENT OF COMMERCE

National Oceanic and Atmospheric Administration

ENVIRONMENTAL PROTECTION AGENCY

Coastal Nonpoint Pollution Control Program: Proposed Findings Document and Programmatic Environmental Assessment

AGENCY: National Oceanic and Atmospheric Administration, U.S. Department of Commerce, and the U.S. Environmental Protection Agency.

ACTION: Notice of availability of Proposed Findings Document and Programmatic Environmental Assessment on approval of the Coastal Nonpoint Pollution Control Program for Illinois.

SUMMARY: Notice is hereby given of the availability of the Proposed Findings Document and Programmatic Environmental Assessment for Illinois' Coastal Nonpoint Pollution Control Program. Coastal states and territories are required to submit their coastal nonpoint programs to the National Oceanic and Atmospheric Administration (NOAA) and the U.S. Environmental Protection Agency (EPA) for approval. The Findings Document was prepared by NOAA and the EPA to provide the rationale for the agencies' decision to approve, with conditions, the state coastal nonpoint pollution control program. The Coastal Zone Act Reauthorization Amendments (CZARA) requires states and territories with coastal zone management programs that have received approval under the Coastal Zone Management Act to develop and implement coastal nonpoint programs. The Programmatic Environmental Assessment was prepared by NOAA, pursuant to the National Environmental Policy Act (NEPA), to assess the environmental impacts associated with the approval of the coastal nonpoint pollution control program submitted to NOAA and the EPA by Illinois.

NOAA and the EPA have proposed to approve, with conditions, the coastal nonpoint program submitted by Illinois.

DATES: Individuals or organizations wishing to submit comments on the proposed Findings or Programmatic Environmental Assessment should do so by June 24, 2016.

ADDRESSES: Comments should be made to: Joelle Gore, Chief, Stewardship Division (N/OCM6), ATTN: Illinois Coastal Nonpoint Program, Office for Coastal Management, NOS, NOAA, 1305 East-West Highway, Silver Spring, Maryland, 20910, phone (240) 533-0813, email ocm.czara@noaa.gov.

FOR FURTHER INFORMATION CONTACT: Copies of the proposed Findings Document and Programmatic Environmental Assessment may be found on the NOAA Web site at http://coast.noaa.gov/czm/pollutioncontrol/ or may be obtained upon request from: Allison Castellan, Stewardship Division (N/OCM6), Office for Coastal Management, NOS, NOAA, 1305 East-West Highway, Silver Spring, Maryland, 20910, phone (240) 533-0799, email allison.castellan@noaa.gov.

SUPPLEMENTARY INFORMATION: The requirements of 40 CFR parts 1500-1508 (Council on Environmental Quality (CEQ) regulations to implement the National Environmental Policy Act) apply to the preparation of Environmental Assessments. Specifically, 40 CFR 1506.6 requires agencies to provide public notice of the availability of environmental documents. This notice is part of NOAA's action to comply with this requirement.

(Federal Domestic Assistance Catalog 11.419 Coastal Zone Management Program Administration)

Dated: May 18, 2016.
W. Russell Callender,
Deputy Assistant Administrator for Ocean Services, National Oceanic and Atmospheric Administration.
Joel Beauvais,
Deputy Assistant Administrator, Office of Water, Environmental Protection Agency.

[FR Doc. 2016-12328 Filed 5-24-16; 8:45 am]

BILLING CODE 3510-08-P